DEPARTMENT OF TRANSPORTATION

Surface Transportation Board

[Ex Parte No. 333]

Sunshine Act Meeting

Time and Date: 10 a.m., August 31, 2004.

Place: The Board's Hearing Room, Surface Transportation Board, 1925 K Street, NW., Washington, DC 20423.

Status: The Board will meet to discuss among themselves the following agenda items. Although the conference is open for public observation, no public participation is permitted.

Matters To Be Considered: STB Finance Docket No. 27590 (Sub-No. 3), TTX Company, et al.—Application for Approval of Pooling of Car Service with Respect to Flatcars.

STB Docket No. 42054, PPL Montana, LLC v. The Burlington Northern and Santa Fe Railway Company.

Contact Person For More Information: A. Dennis Watson, Office of Congressional and Public Services, Telephone: (202) 565-1596 FIRS: 1-800-877-8339.

Dated: August 24, 2004.
Vernon A. Williams,
Secretary.

[FR Doc. 04-19680 Filed 8-25-04; 11:12 am]

BILLING CODE 4915-01-P